DEPARTMENT OF HOMELAND SECURITY

Coast Guard

[USCG 2004-18058]

Merchant Marine Personnel Advisory Committee; Vacancies

AGENCY: Coast Guard, DHS.

ACTION: Request for applications.

SUMMARY: The Coast Guard is seeking applications for appointment to membership on the Merchant Marine Personnel Advisory Committee (MERPAC). MERPAC provides advice and makes recommendations to the Coast Guard on matters related to the training, qualification, licensing, certification, and fitness of seamen serving in the U. S. merchant marine.

DATES: Applications should reach us on or before August 30, 2004.

ADDRESSES: You may request an application form by writing to Commandant (G-MSO-1), U.S. Coast Guard, 2100 Second Street SW., Washington, DC 20593-0001. Please submit applications to the same address.

FOR FURTHER INFORMATION CONTACT: Commander Brian J. Peter, Executive Director of MERPAC, or Mr. Mark C. Gould, Assistant to the Executive Director, telephone 202-267-6890, fax 202-267-4570.

SUPPLEMENTARY INFORMATION: This notice is available on the Internet at http://dms.dot.gov/search/searchFormSimple.cfm under the docket number [USCG-2004-18058]. The application form is also available on the Internet at http://www.uscg.mil/hq/g-m/advisory/app.pdf. You may also obtain an application by calling Mr. Mark Gould at (202) 267-6890; by e-mailing him at mgould@comdt.uscg.mil; by faxing him at (202) 267-4570; or by writing him at the location in ADDRESSES above.

MERPAC is chartered under the Federal Advisory Committee Act, 5 U.S.C. App. 2. It provides advice and makes recommendations to the Assistant Commandant for Marine Safety, Security and Environmental Protection, on matters of concern to seamen serving in our merchant marine, such as implementation of the International Convention on Standards of Training, Certification and Watchkeeping for Seafarers, 1978 (STCW), as amended.

MERPAC meets normally twice a year, once at or near Coast Guard Headquarters, Washington, DC, and once elsewhere in the country. Its subcommittees and working groups may also meet to consider specific tasks as required.

The Coast Guard will consider applications for seven positions that expire or become vacant in January 2005. It needs applicants with one or more of the following backgrounds to fill the positions:

(a) Shipping company representative;

(b) Licensed deck officer;

(c) Pilot;

(d) Licensed engineering officer;

(e) Unlicensed member of the deck department;

(f) Marine educator affiliated with state or federal maritime academies; and

(g) Marine educator affiliated with a training institution other than state or federal maritime academies.

Each member serves for a term of three years. MERPAC members serve without compensation from the Federal Government; however, they do receive travel reimbursement and per diem.

In support of the policy of the Department of Homeland Security on gender and ethnic diversity, the Coast Guard encourages applications from qualified women and members of minority groups.

Dated: June 14, 2004.
Joseph J. Angelo,
Director of Standards, Marine Safety, Security and Environmental Protection.

[FR Doc. 04-13976 Filed 6-18-04; 8:45 am]

BILLING CODE 4910-15-P